DEPARTMENT OF ENERGY

Federal Energy Regulatory Commission

[Docket No. CP10-501-000]

Destin Pipeline Company, L.L.C.; Notice of Request Under Blanket Authorization

October 1, 2010.

Take notice that on September 20, 2010, Destin Pipeline Company, L.L.C. (Destin), 550 Westlake Park Boulevard, Houston, Texas, 77079-2696 filed an application pursuant to Section 7(b), Parts 157.205, 157.208 and 157.212, of the Commission's regulations under the Natural Gas Act (NGA) for authorization to construct a new interconnection with Gulf LNG Pipeline, LLC's (Gulf LNG) Destin Meter Station located in Jackson County, Mississippi, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Destin plans to construct a new interconnection between its existing 36-inch pipeline and Gulf LNG's Destin Meter Station that will consist of a new 36-inch hot tap and approximately 35 feet of 36-inch natural gas pipeline.

Any questions regarding the application should be directed to Bruce G. Reed, Director, Regulatory Affairs, BP Pipelines (North America), 550 Westlake Park Boulevard, Houston, TX 77079-2696 at (281) 366-5062.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-25506 Filed 10-8-10; 8:45 am]

BILLING CODE 6717-01-P